DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Canadian National Railway

[Waiver Petition Docket Number FRA-1999-5756]

The Canadian National Railway (CN) seeks to expand a previously granted waiver of compliance with the Locomotive Safety Standards, 49 CFR 229.47(a), which requires each car body-type road locomotive be equipped with an emergency brake valve adjacent to each end exit door, and the brake pipe valve locations shall be stencilled as “EMERGENCY BRAKE VALVE” or shall be identified on an adjacent badge plate.

CN's original request was for 178 car body locomotives built between 1985 and 1990. It was utilized to haul freight that have never been equipped with an emergency brake valve at the rear exit door. The original waiver received conditional approval from FRA's Safety Board on April 14, 2000. Subsequent to the approval, CN acquired 40 additional car body-type locomotives when they acquired ownership of BC Rail Ltd., which did not meet the requirements of 49 CFR 229.47(a). CN requests that these 40 locomotives be added to the 178 locomotives that were previously granted relief under waiver Docket Number FRA-1999-5756.

Since the original granting of the waiver for the 178 car body-type locomotives, CN has been unaware of any problems arising from the lack of an emergency brake valve adjacent to the rear end exit door.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-5756) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on October 28, 2009.
Grady C. Cothen, Jr.,
Deputy Associate Administrator for Safety Standards and Program Development.

[FR Doc. E9-26442 Filed 11-2-09; 8:45 am]

BILLING CODE 4910-06-P